DEPARTMENT OF ENERGY

10 CFR Part 430

[EERE-2016-BT-TP-0018]

RIN 1904-AD68

Energy Conservation Program: Test Procedure for Uninterruptible Power Supplies; Correction

AGENCY: Office of Energy Efficiency and Renewable Energy, Department of Energy.

ACTION: Correcting amendment.

SUMMARY: On December 12, 2016, the U.S. Department of Energy (“DOE”) published a final rule that added a test procedure for uninterruptible power supplies (UPSs) to the existing DOE test procedure for battery chargers. This document corrects an error in the amended regulatory text as it appeared in the December 2016 final rule. Neither the error nor the correction in this document affect the substance of the rulemaking or any conclusions reached in support of the final rule.

DATES: Effective May 11, 2022.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email ApplianceStandardsQuestions@ee.doe.gov.

Mr. Pete Cochran, U.S. Department of Energy, Office of the General Counsel, GC-33, 1000 Independence Avenue SW, Washington, DC 20585-0121. Telephone: (202) 586-9496. Email: peter.cochran@hq.doe.gov.

SUPPLEMENTARY INFORMATION:

I. Background

DOE published a final rule in the Federal Register on December 12, 2016, establishing a test procedure for UPSs as an addition to the existing test procedure for battery chargers at title 10 of the Code of Federal Regulations (“CFR”), part 430, subpart B, appendix Y (“appendix Y”). 81 FR 89806. Since publication of the final rule, DOE identified an error in the regulatory text for the UPS test procedure. The regulatory text in section 4.2.1 “General Setup” of appendix Y requires the tester to “configure the UPS according to Annex J.2 of IEC 62040-3 Ed. 2.0,” then states in paragraph (a) of that section: “If the UPS can operate in two or more distinct normal modes as more than one UPS architecture, conduct the test in its lowest input dependency as well as in its highest input dependency mode where VFD represents the lowest possible input dependency, followed by VI and then VFI.” However, the text in paragraph (a) erroneously identifies VFD as the lowest input dependency, whereas it is in fact the highest input dependency as identified in the referenced Annex J.2 of IEC 62040-3.

II. Need for Correction

As published, the regulatory text in the December 2016 final rule may result in confusion as to the identified input dependency modes for the purposes of product testing in accordance with appendix Y and certifications of compliance with energy conservation standards for UPSs in accordance with 10 CFR 429.39. The current regulatory text is also in conflict with the referenced industry test procedure. Because this final rule would simply correct an error in the text without making substantive changes in the December 2016 final rule, the changes addressed in this document are technical in nature.

III. Procedural Issues and Regulatory Review

DOE has concluded that the determinations made pursuant to the various procedural requirements applicable to the December 2016 final rule remain unchanged for this final rule technical correction. These determinations are set forth in the December 2020 final rule. 81 FR 89806, 89818.

Pursuant to the Administrative Procedure Act, 5 U.S.C. 553(b)(3)(B), DOE finds that there is good cause to not issue a separate notice to solicit public comment on the changes contained in this document. Issuing a separate notice to solicit public comment would be impracticable, unnecessary, and contrary to the public interest. Neither the errors nor the corrections in this document affect the substance of the December 2016 final rule or any of the conclusions reached in support of the final rule. Providing prior notice and an opportunity for public comment on correcting objective, typographical errors that do not change the substance of the test procedure serves no useful purpose.

Further, this rule correcting a regulatory text error makes non-substantive changes to the test procedure. As such, this rule is not subject to the 30-day delay in effective date requirement of 5 U.S.C. 553(d) otherwise applicable to rules that make substantive changes.

List of Subjects in 10 CFR Part 430

Administrative practice and procedure, Confidential business information, Energy conservation, Household appliances, Imports, Intergovernmental relations, Small businesses.

Signing Authority

This document of the Department of Energy was signed on May 5, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 6, 2022.
Treena V. Garrett,
Federal Register Liaison Officer, U.S. Department of Energy.

For the reasons stated in the preamble, DOE corrects part 430 of chapter II, subchapter D, of title 10 of the Code of Federal Regulations by making the following correcting amendment:

PART 430—ENERGY CONSERVATION PROGRAM FOR CONSUMER PRODUCTS

1. The authority citation for part 430 continues to read as follows:

Authority: 42 U.S.C. 6291-6309; 28 U.S.C. 2461 note.

2. Appendix Y to subpart B of part 430 is amended by revising section 4.2.1(a) to read as follows:

Appendix Y to Subpart B of Part 430—Uniform Test Method for Measuring the Energy Consumption of Battery Chargers

* * * * *

4.2. * * *

4.2.1. * * *

* * * * *

(a) UPS Operating Mode Conditions. If the UPS can operate in two or more distinct normal modes as more than one UPS architecture, conduct the test in its lowest input dependency as well as in its highest input dependency mode where VFD represents the highest possible input dependency, followed by VI and then VFI.

* * * * *

[FR Doc. 2022-10083 Filed 5-10-22; 8:45 am]

BILLING CODE 6450-01-P